DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 23, 2010.

Interested persons are invited to submit written comments regarding the subject matter of the investigations to the Director, Division of Trade Adjustment Assistance, at the address shown below, not later than August 23, 2010.

Copies of these petitions may be requested under the Freedom of Information Act. Requests may be submitted by fax, courier services, or mail, to FOIA Disclosure Officer, Office of Trade Adjustment Assistance (ETA), U.S. Department of Labor, 200 Constitution Avenue, NW., Washington, DC 20210 or to foiarequest@dol.gov.

Signed at Washington, DC, this 29th of July 2010.
Michael Jaffe,
Certifying Officer, Division of Trade Adjustment Assistance.

Appendix

TAA Petitions Instituted Between 7/19/10 and 7/23/10
TA-W | Subject firm (Petitioners) | Location | Date of institution | Date of petition
74389 | Domtar Paper Company, Inc. (Union) | Cerritos, CA | 07/19/10 | 07/16/10
74390 | Haldex Brake Products Corporation (Company) | Iola, KS | 07/19/10 | 07/15/10
74391 | Travelers Insurance (Workers) | Wyomissing, PA | 07/19/10 | 07/13/10
74392 | Beckman Coulter, Inc. (Company) | Webster, TX | 07/19/10 | 07/12/10
74393 | Henkel of America, Inc. (State/One-Stop) | Rocky Hill, CT | 07/19/10 | 07/15/10
74394 | Laserwords U.S., Inc. (Workers) | Lewiston, ME | 07/19/10 | 06/11/10
74395 | FTCA (Workers) | Somerset, PA | 07/19/10 | 07/15/10
74396 | The Hartford (State/One-Stop) | Farmington, CT | 07/19/10 | 07/15/10
74397 | Progress Software Corporation and DataDirect Technologies (Company) | Bedford, MA | 07/20/10 | 07/12/10
74398 | Progress Software Corporation (Company) | El Segundo, CA | 07/20/10 | 07/12/10
74399 | Progress Software Corporation (Company) | San Francisco, CA | 07/20/10 | 07/12/10
74400 | Progress Software Corporation (Company) | Nashua, NH | 07/20/10 | 07/12/10
74401 | Savvion, a Progress Software Company (Company) | Santa Clara, CA | 07/20/10 | 07/12/10
74402 | DataDirect Technologies (Company) | Los Gatos, CA | 07/20/10 | 07/12/10
74403 | Progress Software Corporation (Company) | Oak Brook, IL | 07/20/10 | 07/12/10
74404 | Progress Software Corporation (Company) | Largo, MD | 07/20/10 | 07/12/10
74405 | Progress Software Corporation (Company) | New York, NY | 07/20/10 | 07/12/10
74406 | DataDirect Technologies Headquarter (Company) | Morrisville, NC | 07/20/10 | 07/12/10
74407 | Progress Software Corporation (Company) | Austin, TX | 07/20/10 | 07/12/10
74408 | DataDirect Technologies (Company) | Sugar Land, TX | 07/20/10 | 07/12/10
74409 | DataDirect Technologies (Company) | Fairfax, VA | 07/20/10 | 07/12/10
74410 | DataDirect Technologies (Company) | Norfolk, VA | 07/20/10 | 07/12/10
74411 | Avaya (Wkrs) | Basking Ridge, NJ | 07/20/10 | 07/08/10
74412 | Convergys (Wkrs) | Albuquerque, NM | 07/20/10 | 06/29/10
74413 | McGuire Furniture Company (Wkrs) | San Francisco, CA | 07/20/10 | 07/08/10
74414 | PricewaterhouseCoopers (Workers) | Cleveland, OH | 07/20/10 | 07/13/10
74415 | New Page Corporation (Company) | Kimberly, WI | 07/20/10 | 07/19/10
74416 | Ainak (Company) | Winchester, KY | 07/20/10 | 07/12/10
74417 | Good Harbor Fillet (State/One-Stop) | Gloucester, MA | 07/21/10 | 07/19/10
74418 | Husqvarna Outdoor Products (Workers) | Texarkana, TX | 07/21/10 | 06/30/10
74419 | Huntington Foam LLC (Workers) | Brockway, PA | 07/21/10 | 07/14/10
74420 | Russell Investments (Workers) | Tacoma, WA | 07/21/10 | 07/21/10
74421 | Fairfield Chair Company (Company) | Lenoir, NC | 07/22/10 | 07/19/10
74422 | World Color (USA), LLC (Company) | Dyersburg, TN | 07/22/10 | 07/16/10
74423 | Kennametal/Extrude Hone (Workers) | Irwin, PA | 07/22/10 | 07/15/10
74424 | Unisource Worldwide, Inc. (Company) | Wisconsin Rapids, WI | 07/23/10 | 07/21/10
74425 | Douglas Corporation (State/One-Stop) | Eden Prairie, MN | 07/23/10 | 07/22/10
74426 | International Business Machines (State/One-Stop) | Rochester, MN | 07/23/10 | 07/22/10
74427 | Mattel, Inc. (Workers) | El Sequndo, CA | 07/23/10 | 07/20/10
74428 | MH Technologies, LLC (Company) | Mount Holly Springs, PA | 07/23/10 | 05/19/10
74429 | Tyden Brooks Security Products Group (Workers) | Livingston, NJ | 07/23/10 | 07/01/10

[FR Doc. 2010-20037 Filed 8-12-10; 8:45 am]

BILLING CODE 4510-FN-P